DEPARTMENT OF COMMERCE

International Trade Administration

[A-533-871]

Finished Carbon Steel Flanges From India: Notice of Initiation and Preliminary Results of Changed Circumstances Review

AGENCY: Enforcement and Compliance, International Trade Administration, Department of Commerce.

SUMMARY: In response to a request for a changed circumstances review (CCR), the U.S. Department of Commerce (Commerce) is initiating a CCR of the antidumping duty (AD) order on finished carbon steel flanges (flanges) from India. We preliminarily determine that BFN Forgings Private Limited (BFN) is the successor-in-interest to Bebitz Flanges Works Private Limited (Bebitz). Interested parties are invited to comment on these preliminary results.

DATES: Applicable June 6, 2022.

FOR FURTHER INFORMATION CONTACT: James R. Hepburn or Fred Baker, Office VI, Enforcement and Compliance, International Trade Administration, U.S. Department of Commerce, 1401 Constitution Avenue NW, Washington, DC 20230; telephone: (202) 482-4885 and (202) 482-2924, respectively.

SUPPLEMENTARY INFORMATION:

Background

On August 24, 2017, Commerce published the AD order on flanges from India in the Federal Register.¹ In the most recent administrative review of the Order covering the period August 1, 2019, through July 31, 2020, Bebitz was assigned the cash deposit rate of 0.00 percent as a company not selected for individual review.²

¹ See Finished Carbon Steel Flanges from India and Italy: Antidumping Duty Orders, 82 FR 40136 (August 24, 2017) (Order).

² See Finished Carbon Steel Flanges from India: Final Results of Antidumping Duty Administrative Review; 2019-2020, 87 FR 13701, 13703 (March 10, 2022).

On April 14, 2022, BFN requested that Commerce conduct an expedited CCR to find that BFN is the successor-in-interest to Bebitz.³ In its submission, BFN addressed the factors Commerce analyzes with respect to successor-in-interest determinations in the AD context and provided supporting documentation.⁴ Commerce received no comments from interested parties on BFN's CCR Request.

³ See BFN's Letter, “Finished Carbon Steel Flanges from India: Request for an Expedited Successor-in-Interest Changed Circumstances Review,” dated April 14, 2022 (CCR Request).

⁴ Id.

Scope of the Order

The merchandise covered by the Order is flanges from India. For a full description of the merchandise covered by the scope of the Order, see the Preliminary Decision Memorandum.⁵

⁵ See Memorandum, “Finished Carbon Steel Flanges from India: Initiation and Preliminary Results of the Changed Circumstances Review,” dated concurrently with, and hereby adopted by, this notice (Preliminary Decision Memorandum).

Initiation of Changed Circumstances Review

Pursuant to section 751(b)(1) of the Tariff Act of 1930, as amended (the Act), and 19 CFR 351.216, Commerce will conduct a CCR upon receipt of a request from an interested party for a review of an AD order which shows changed circumstances sufficient to warrant a review of the order.⁶ The information submitted by BFN supporting its claim that BFN is the successor-in-interest to Bebitz demonstrates changed circumstances sufficient to initiate a review.⁷

⁶ See 19 CFR 351.216(c).

⁷ See 19 CFR 351.216(d).

The information submitted by BFN demonstrates that its request is based solely on a change in the name of the company from “Bebitz Flanges Works Private Limited” to “BFN Forgings Private Limited,” effective August 14, 2020.⁸ Moreover, the evidence submitted in support of BFN's request demonstrates that BFN is otherwise the same business entity as Bebitz. Therefore, in accordance with the regulation referenced above, Commerce is initiating a CCR to determine whether BFN is the successor-in-interest to Bebitz.

⁸ See CCR Request at 3.

Preliminary Results of Changed Circumstances Review

When Commerce concludes that expedited action is warranted, it may publish the notice of initiation and preliminary results of a CCR concurrently.⁹ Commerce has combined the notice of initiation and preliminary results in successor-in-interest cases when sufficient documentation has been provided supporting the request to make a preliminary determination.¹⁰ In this instance, because we have information on the record to support the request for a preliminary determination and no other interested party comments, we find that expedited action is warranted, and we are combining the notice of initiation and the notice of preliminary results of review, in accordance with 19 CFR 351.221(c)(3)(ii).

⁹ See 19 CFR 351.221(c)(3)(ii).

¹⁰ See, e.g., Certain Frozen Freshwater Shrimp from India: Notice of Initiation and Preliminary Results of Antidumping Duty Changed Circumstances Review, 85 FR 57192 (September 15, 2020) (Hyson CCR Initiation and Preliminary Results), unchanged in Certain Frozen Freshwater Shrimp from India: Notice of Final Results of Antidumping Duty Changed Circumstances Review, 85 FR 70584 (November 5, 2020) (Hyson CCR Final Results).

In a CCR, we generally consider a company to be the successor to another company for AD cash deposit purposes if the operations of the successor are not materially dissimilar from those of its predecessor.¹¹ In making this determination, Commerce examines a number of factors including, but not limited to, changes in: (1) management; (2) production facilities; (3) suppliers; and (4) customer base.¹² While no single factor or combination of factors is dispositive, Commerce will generally consider one company to be the successor to another if its resulting operations are essentially the same as that of its predecessor.¹³ Thus, if the evidence demonstrates that, with respect to the production and sale of the subject merchandise, the new company operates as the same business entity as the prior company, Commerce will assign the new company the cash deposit rate of its predecessor.¹⁴

¹¹ Id.

¹² See, e.g., Heavy Walled Rectangular Welded Carbon Steel Pipes and Tubes from Turkey: Notice of Initiation and Preliminary Results of Changed Circumstances Review, 86 FR 70443 (December 10, 2021) at 86 FR 70444; unchanged in Heavy Walled Rectangular Welded Carbon Steel Pipes and Tubes from Turkey: Final Results of Changed Circumstances Review, 87 FR 3763 (January 25, 2022).

¹³ Id.

¹⁴ See, e.g., Hyson CCR Initiation and Preliminary Results, unchanged in Hyson CCR Final Results.

In its CCR request, BFN provided evidence demonstrating that BFN's operations are not materially dissimilar from those of Bebitz. Based on the record, we preliminarily determine that BFN is the successor-in-interest to Bebitz. For a complete discussion of the information that BFN provided, including business proprietary information, and the complete successor-in-interest analysis, see the Preliminary Decision Memorandum.¹⁵ A list of topics discussed in the Preliminary Decision Memorandum is included as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹⁵ See Preliminary Decision Memorandum.

Public Comment

Any interested party may request a hearing within 14 days of publication of this notice, in accordance with 19 CFR 351.310(c).¹⁶ Interested parties may submit case briefs no later than 14 days after the date of publication of this notice.¹⁷ Rebuttal briefs, limited to issues raised in the case briefs, may be filed no later than seven days after the deadline for case briefs, in accordance with 19 CFR 351.309(d). Parties who submit case or rebuttal briefs in this CCR are requested to submit with each argument: (1) a statement of the issue; (2) a brief summary of the argument; and (3) a table of authorities.¹⁸ All comments are to be filed electronically using ACCESS, and must also be served on interested parties. An electronically filed document must be received successfully in its entirety by ACCESS by 5:00 p.m. Eastern Time on the day it is due.¹⁹ Note that Commerce has temporarily modified certain requirements for serving documents containing business proprietary information, until further notice.²⁰

¹⁶ Commerce is exercising its discretion under 19 CFR 351.310(c) to alter the time limit for requesting a hearing.

¹⁷ Commerce is exercising its discretion under 19 CFR 351.309(c)(1)(ii) to alter the time limit for the filing of case briefs.

¹⁸ See 19 CFR 351.309(c)(2) and (d)(2).

¹⁹ See 19 CFR 351.303(b).

²⁰ See Temporary Rule Modifying AD/CVD Service Requirements Due to COVID-19; Extension of Effective Period, 85 FR 41363 (July 10, 2020).

Consistent with 19 CFR 351.216(e), we will issue the final results of this CCR no later than 270 days after the date on which this review was initiated, or within 45 days of publication of these preliminary results if all parties agree to the preliminary finding.

Notification to Interested Parties

We are issuing and publishing this initiation and preliminary results notice in accordance with sections 751(b)(1) and 777(i) of the Act and 19 CFR 351.216 and 351.221(c)(3).

Dated: May 27, 2022.
Lisa W. Wang,
Assistant Secretary for Enforcement and Compliance.

Appendix

List of Topics Discussed in Preliminary Decision Memorandum

I. Background

II. Scope of the Order

III. Initiation And Preliminary Results of the Changed Circumstances Review

IV. Successor-in-Interest Determination

V. Recommendation

[FR Doc. 2022-12084 Filed 6-3-22; 8:45 am]

BILLING CODE 3510-DS-P